DEPARTMENT OF COMMERCE

National Oceanic and Atmospheric Administration

[I.D. 112502D]

Western Pacific Fishery Management Council; Public Meeting

AGENCY: National Marine Fisheries Service (NMFS), National Oceanic and Atmospheric Administration (NOAA), Commerce.

ACTION: Notice of public meeting/public hearing.

SUMMARY: The Western Pacific Fishery Management Council (Council) will meet on December 16, 2002, at 2 p.m.

ADDRESSES: The Council meeting will be held via telephone conference call at the Council offices, 1164 Bishop Street, Suite 1400, Honolulu, HI 96813; telephone: (808)522-8220; fax: (808) 522-8226.

FOR FURTHER INFORMATION CONTACT: Kitty M. Simonds, Executive Director; telephone: 808-522-8220.

SUPPLEMENTARY INFORMATION: The agenda during the Council meeting will include the items listed here:

1. Pelagic Fisheries

Consideration of new provisions for turtle conservation measures for pelagic vessels in the Western Pacific.

In 2002, the Western Pacific Council developed a regulatory framework adjustment to the Pelagic Fisheries Management Plan (PFMP) which was intended to minimize interactions with and harm to sea turtles. These measures stemmed from the non- discretionary Reasonable and Prudent Measures contained in a Endangered Species Act Biological Opinion published by the NMFS in 2001. Although primarily intended for the Hawaii longline fishery, these measures included provisions for all pelagic fisheries under the jurisdiction of the Council. The measures included requirements for small troll and handline vessels to carry bolt cutters and line clippers, to remove hooks and fishing line from any turtles caught while fishing. A new Biological Opinion for pelagic fisheries in the Western Pacific was completed on November 15, 2002. The new Opinion states that in the event of interaction with a sea turtle, operators of vessels using handline and trolling fishing gears to target Pacific pelagic management unit species in waters of the U.S. Western Pacific Exclusive Economic Zone, must handle the sea turtle in a manner to minimize injury and promote post-hooking survival as previously published in the Code of Federal Regulations (CFR 660.32 (c) and (d)). The Council will consider whether initial action is required to adjust the WPFMC regulatory requirements, in order to be consistent with the language in the new Biological Opinion. A public hearing will be held to give the public opportunity to comment before the Council takes action on this agenda item.

2. Other Business

Although non-emergency issues not contained in this agenda may come before the Council for discussion, those issues may not be the subject of formal Council action during this meeting. Council action will be restricted to those issues specifically listed in this document and to any issue arising after publication of this document that requires emergency action under section 305(c) of the Magnuson-Stevens Act, provided that the public has been notified of the Council's intent to take final action to address the emergency.

Special Accommodations

This meeting is physically accessible to people with disabilities. Requests for sign language interpretation or other auxiliary aids should be directed to Kitty M. Simonds, 808-522- 8220 (voice) or 808-522-8226 (fax), at least 5 days prior to the meeting date.

Dated: November 25, 2002.
Richard W. Surdi,
Acting Director, Office of Sustainable Fisheries, National Marine Fisheries Service.

[FR Doc. 02-30455 Filed 11-29-02; 8:45 am]

BILLING CODE 3510-22-S